DEPARTMENT OF JUSTICE

Notice of Lodging of Consent Decree Under the Clean Air Act

Under 28 CFR 50.7, notice is hereby given that on October 17, 2005, a proposed Consent Decree (“Decree”) in United States v. Lucite International, Inc., Civil Action No. 05-2773 Ma V, was lodged with the United States District Court for the Western District of Tennessee.

In this action, the United States sought penalties and injunctive relief from Defendant with respect to Clean Air Act violations at its methyl methacrylate and acrylic sheeting facility on Fite Road in Memphis, Tennessee. The Complaint against Defendant alleges violations of following provisions: New Source Performance Standards (NSPS) applicable to Sulfuric Acid Plants, at 40 CFR Part 60, Subpart H; National Emissions Standards for Hazardous Air Pollutants at 40 CFR Part 63, Subparts A, F and G; and Protection of Stratospheric Ozone under Section 608 of the Act, as implemented by regulations at 40 CFR Part 82, Subpart F. The Complaint further alleges that many of these violations resulted in corresponding violations of Defendant's Title V Permit and of Tennessee's State Implementation Plan. The Decree resolves the claims alleged in the Complaint and requires Defendant to pay $1.8 million plus interest in civil penalties, and to install NSPS compliant controls at an estimated cost of approximately $16 million. In addition, the Decree provides for implementation of a Supplemental Environmental Project valued at $1.3 million, to reroute emissions from two sources, resulting in the reduction of emissions from those sources to a level that is only 10% of previously permitted emissions.

The Department of Justice will receive for a period of thirty (30) days from the date of this publication comments relating to the Decree. Comments should be addressed to the Assistant Attorney General, Environment and Natural Resources Division, P.O. Box 7611, U.S. Department of Justice, Washington, DC 20044-7611, and should refer to United States v. Lucite International, Inc., D.J. Ref. 90-5-2-1-08272.

The Decree may be examined at the Office of the United States Attorney, 167 North Main St., Suite 800, Memphis, Tennessee 38013, and at U.S. EPA Region 4, 61 Forsyth Street, SW., Atlanta, Georgia 30303. During the public comment period, the Decree may also be examined on the following Department of Justice Web site, http://www.usdoj.gov/enrd/open.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $13.50 (25 cents per page reproduction cost) payable to the U.S. Treasury.

Ellen M. Mahan,
Assistant Chief, Environmental Enforcement Section, Environment and Natural Resources Division.

[FR Doc. 05-21886 Filed 11-1-05; 8:45 am]

BILLING CODE 4410-15-M